DEPARTMENT OF HOMELAND SECURITY

Coast Guard

33 CFR Part 100

[CGD05-04-175]

RIN 1625-AA08

Special Local Regulations for Marine Events; Virginia Beach, VA

AGENCY: Coast Guard, DHS.

ACTION: Notice of implementation of regulation.

SUMMARY: The Coast Guard is implementing the special local regulations at 33 CFR 100.522 during the Neptune Festival Fireworks to be held September 25, 2004, in the vicinity of the Virginia Beach Fishing Pier, Virginia Beach, VA. This action is necessary to provide for the safety of life on navigable waters during the event. The effect will be to restrict general navigation in the regulated area for the safety of participants and vessels transiting the event area.

DATES: 33 CFR 100.522 will be enforced from 8:45 p.m. to 10 p.m. on September 25, 2004.

FOR FURTHER INFORMATION CONTACT: Michael Bowling, Project Manager, Coast Guard Group Hampton Roads, VA, at (757) 483-8567.

SUPPLEMENTARY INFORMATION: The Virginia Beach Neptune Festival will sponsor the fireworks display on September 25, 2004 over the coastal waters in the vicinity of the Virginia Beach Fishing Pier, Virginia Beach, Virginia. The pyrotechnic display will be launched from the fishing pier located within the regulated area. A fleet of spectator vessels is expected to gather nearby to view the event. Therefore, to ensure the safety of spectators and transiting vessels, 33 CFR 100.522 will be enforced for the duration of the event. Under provisions of 33 CFR 100.522, a vessel may not enter the regulated area unless it receives permission from the Coast Guard Patrol Commander. Spectator vessels may anchor outside the regulated area but may not block a navigable channel.

In addition to this notice, the maritime community will be provided extensive advance notification via the Local Notice to Mariners, marine information broadcasts, and area newspapers, so mariners can adjust their plans accordingly.

Dated: September 14, 2004.
Ben R. Thomason, III,
Captain, U.S. Coast Guard, Acting Commander, Fifth Coast Guard District.

[FR Doc. 04-21524 Filed 9-23-04; 8:45 am]

BILLING CODE 4910-15-P